DEPARTMENT OF THE INTERIOR

Bureau of Indian Affairs

Land Acquisitions; United Keetoowah Band of Cherokee Indians of Oklahoma

AGENCY: Bureau of Indian Affairs, Interior.

ACTION: Notice of final agency determination.

SUMMARY: The Assistant Secretary—Indian Affairs made a final agency determination to acquire approximately 2.03 acres of land into trust for the United Keetoowah Band of Cherokee Indians of Oklahoma on July 30, 2012.

FOR FURTHER INFORMATION CONTACT: Paula L. Hart, Director, Office of Indian Gaming, Bureau of Indian Affairs, MS-3657 MIB, 1849 C Street NW., Washington, DC 20240; Telephone (202) 219-4066.

SUPPLEMENTARY INFORMATION: This notice is published in the exercise of authority delegated by the Secretary of the Interior to the Assistant Secretary—Indian Affairs by 209 Departmental Manual 8.1 and is published to comply with the requirements of 25 CFR 151.12(b) that notice be given to the public of the Secretary's decision to acquire land in trust at least 30 days prior to signatory acceptance of the land into trust. The purpose of the 30-day waiting period in 25 CFR 151.12(b) is to afford interested parties the opportunity to seek judicial review of final administrative decisions to take land in trust for Indian tribes and individual Indians before transfer of title to the property occurs. On July 30, 2012, the Assistant Secretary—Indian Affairs decided to accept approximately 2.03 acres of land into trust for the United Keetoowah Band of Oklahoma Corporation under the authority of the Oklahoma Indian Welfare Act Reorganization Act of 1936, 25 U.S.C. 503.

The 2.03 acres are located approximately in Tahlequah, Cherokee County, Oklahoma, and described as follows:

A tract of land lying in and being a part of the S/2 NE/4 SE/4 SW/4 and part of the N/2 SE/4 SE/4 SW/4 of Section 4, T-16-N, R-22-E, Cherokee County, Oklahoma, more particularly described as follows, to-wit: BEGINNING at a point 175.0 feet South of the North boundary and 131.0 feet East of the West boundary of said S/2 NE/4 SE/4 SW/4; thence S 02°56′ W, 159.80 feet; thence N 89°12′ W, 24.80 feet; thence S 03°30′ W, 171.40 feet to a point 175.00 feet South of the North boundary of said N/2 SE/4 SE/4 SW/4; thence S 89°49′ E, 384.32 feet to a point on the West boundary of U.S. Highway No. 62; thence N 05°25′ W, along the West boundary of U.S. Highway No. 62, 332.00 feet; thence N 89°49′ W, 309.55 feet to the Point of Beginning. Containing 2.63 acres;

LESS AND EXCEPT A parcel of land BEGINNING 155.00 feet North and 84.80 feet East of the Southwest Corner of the N/2, SE/4 SE/4 SW/4; thence N3°30′ E a distance of 161.90 feet; thence S89°49′ E a distance of 161.90 feet; thence S3°30′ W a distance of 161.90 feet; thence N89°49′ W a distance of 161.90 feet to the Point of Beginning. Containing 0.60 acres more or less.

Dated: July 30, 2012.
Michael S. Black,
Acting Assistant Secretary—Indian Affairs.

[FR Doc. 2012-19205 Filed 8-6-12; 8:45 am]

BILLING CODE 4310-4N-P